DEPARTMENT OF LABOR

Employment and Training Administration

[TA-W-39,001]

Accuride International Incorporated, Charlotte, NC; Notice of Affirmative Determination Regarding Application for Reconsideration

By letter of May 21, 2001, the company requested administrative reconsideration of the Department of Labor's Notice of Negative Determination Regarding Eligibility to Apply for Worker Adjustment Assistance, applicable to petition number TA-W-39,001. The denial notice was signed on April 26, 2001 and was published in the Federal Register on May 9, 2001 (66 FR 23733).

The petitioner presented new information concerning possible increased company imports of the product produced by the subject plant.

Conclusion

After careful review of the application, I conclude that the claim is of sufficient weight to justify reconsideration of the Department of Labor's prior decision. The application is, therefore, granted.

Signed at Washington, DC, this 18th day of September 2001.
Edward A. Tomchick,
Director, Division of Trade Adjustment Assistance.

[FR Doc. 01-24820 Filed 10-3-01; 8:45 am]

BILLING CODE 4510-30-M